DEPARTMENT OF THE INTERIOR

National Park Service

[NPS-WASO-NAGPRA-NPS0039221; PPWOCRADN0-PCU00RP14.R50000]

Notice of Inventory Completion: Western Washington University, Department of Anthropology, Bellingham, WA

AGENCY: National Park Service, Interior.

ACTION: Notice.

SUMMARY: In accordance with the Native American Graves Protection and Repatriation Act (NAGPRA), the Western Washington University, Department of Anthropology (WWU), has completed an inventory of human remains and associated funerary objects and has determined that there is a cultural affiliation between the human remains and associated funerary objects and Indian Tribes or Native Hawaiian organizations in this notice. The human remains and associated funerary objects were removed from 45-WH-10 and 45-WH-11, Birch Bay, Whatcom County, WA.

DATES: Repatriation of the human remains and associated funerary objects in this notice may occur on or after January 17, 2025.

ADDRESSES: Dr. Judith Pine, Western Washington University, Department of Anthropology, Arntzen Hall 340, 516 High Street, Bellingham, WA 98225, telephone (360) 650-4783, email pinej@wwu.edu.

SUPPLEMENTARY INFORMATION: This notice is published as part of the National Park Service's administrative responsibilities under NAGPRA. The determinations in this notice are the sole responsibility of the WWU, and additional information on the determinations in this notice, including the results of consultation, can be found in its inventory or related records. The National Park Service is not responsible for the determinations in this notice.

Abstract of Information Available

Human remains representing, at least, three individuals have been identified. The 18 associated funerary objects are bone, stone and antler tools, red ochre, dentalium, a whale rib, and a bone medallion.

Three separate projects completed over the course of 45 years contributed to the 45-WH-10 and 45-WH-11 collections housed at WWU. In 1970-71, WWU field school students worked at both sites under the direction of Dr. Garland Grabert. Brief notes indicate that surface collection and a small-scale excavation occurred, but no report was completed. The original 1995 WWU NAGPRA Inventory listed one human premolar from 45-WH-10. This ancestral remain was repatriated to the Lummi Nation in 2001, upon their request (Rollins, 2001 “Inventory of Remains in Preparation for Reinterment”). During the WWU 2018-2020 Repatriation and Rehousing Project described above, previously unknown associated funerary objects were identified from 45-WH-10 by Lummi Cultural Specialist R. Tom.

Three human burials were unearthed from 45-WH-11 during this work. One was found in a test unit while the remains of two other individuals were surface collected from a ditch. The three individuals from 1970-71 excavations were reported in the original 1995 WWU NAGPRA Inventory and repatriated to the Lummi Nation upon their request in 2001.

In 1975, WWU signed a contract with Arcomm Construction Company, Inc. of Seattle to conduct “salvage archaeology” during the development of the Birch Bay sewage treatment facility. Jeannette Gaston and Garland Grabert (WWU) led the project. Most of the work consisted of monitoring and salvage archaeology during construction activities throughout the summer of 1975. During this project, twenty-six test cuts were excavated within the pipeline right-of-way (Gaston and Grabert,1975) within the boundaries of 45-WH-11. Human remains were also encountered during this project and reported in the original 1995 WWU NAGPRA Inventory. All of the known human remains from the 1970-71 and 1975 projects were repatriated to the Lummi Nation in 2001, upon their request.

The third project, completed between May and August of 2015 by Drayton Archaeology (DA), consisted of data recovery excavations, construction monitoring and mitigation data recovery under Department of Archaeology and Historic Preservation (DAHP) archaeological site excavation and disturbance permit #2015-06 at 45-WH-11. During this work, several units were excavated for data collection purposes.

During the WWU 2018-2020 Repatriation and Rehousing Project described above, additional ancestral remains were found in the “faunal” bags from 1970-71, Test Cut 2. These newly identified remains were reported in a revised inventory and in published federal notice N5472. Subsequent work in the collections and consultation between WWU and the Lummi Nation has resulted in the identification of additional human remains and associated funerary objects from 45-WH-11.

Cultural Affiliation

Based on the information available and the results of consultation, cultural affiliation is clearly identified by the information available about the human remains and associated funerary objects described in this notice.

Determinations

The WWU has determined that:

• The human remains described in this notice represent the physical remains of three individuals of Native American ancestry.

• The 18 objects described in this notice are reasonably believed to have been placed intentionally with or near individual human remains at the time of death or later as part of the death rite or ceremony.

• There is a connection between the human remains and associated funerary objects described in this notice and the Lummi Tribe of the Lummi Reservation and the Nooksack Indian Tribe.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after January 17, 2025. If competing requests for repatriation are received, the WWU must determine the most appropriate requestor prior to repatriation. Requests for joint repatriation of the human remains and associated funerary objects are considered a single request and not competing requests. The WWU is responsible for sending a copy of this notice to the Indian Tribes and Native Hawaiian organizations identified in this notice.

Authority: Native American Graves Protection and Repatriation Act, 25 U.S.C. 3003, and the implementing regulations, 43 CFR 10.10.

Dated: December 11, 2024.
Melanie O'Brien,
Manager, National NAGPRA Program.

[FR Doc. 2024-29951 Filed 12-17-24; 8:45 am]

BILLING CODE 4312-52-P